DEPARTMENT OF DEFENSE

Department of the Air Force

[Docket ID USAF-2014-0019]

Proposed Collection; Comment Request

AGENCY: Air Education and Training Command, Department of the Air Force, Department of Defense.

ACTION: Notice.

SUMMARY: In compliance with Section 3506(c)(2)(A) of the Paperwork Reduction Act of 1995, the Department of the Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 11, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Holm Center/JRO, ATTN: Ms. Debra Paggett, 60 West Maxwell Blvd., Maxwell AFB AL 36112-6501, or email HQ-OperationSupport@afjrotc.net.

SUPPLEMENTARY INFORMATION: Title; Associated Form; and OMB Number: Application for Establishment of Air Force Junior ROTC Unit, AFJROTC Form 59, Application for Establishment of Air Force Junior ROTC Unit and AFJROTC Form 98, Air Force Junior ROTC Instructor Evaluation Report, and AFJROTC Instructor Application site, http:///www.au.af.mil/au/holmcenter/AFJROTC/form/instruction_app.asp; OMB Control Number 0701-0114.

Needs and Uses: The information collection requirement is necessary to obtain information about schools that would like to host an Air Force Junior ROTC unit. The Jeanne M. Holm Center for Officer Accessions and Citizen Development, AF Junior ROTC (Holm Center/JR) is responsible for the activation of AF Junior ROTC units at host schools. Respondents are high school officials who provide information about their school. The completed application is used to determine the eligibility of the school to host an Air Force JROTC unit. Failure to submit the application renders the school ineligible for consideration to host an Air Force Junior ROTC unit.

Affected Public: Not-for-profit institutions.

Annual Burden Hours: 100 hours.

Number of Respondents: 200.

Responses per Respondent: 1.

Average Burden per Response: 30 minutes.

Frequency: On occasion.

Respondents are high school officials who provide information about their school. The completed application is used to determine the eligibility of the school to host an Air Force JROTC unit.

Dated: June 6, 2014.
Aaron Siegel,
Alternate OSD Federal Register Liaison Officer, Department of Defense.

[FR Doc. 2014-13595 Filed 6-10-14; 8:45 am]

BILLING CODE 5001-06-P